NATIONAL SCIENCE FOUNDATION

Special Emphasis Panel in Materials Research; Notice of Meeting

In accordance with the Federal Advisory Committee Act (Pub. L. 92-463, as amended), the National Science Foundation announces the following meetings:

Name: Special Emphasis Panel in Materials Research (DMR) #1203.

Dates/Times: May 29 and 30, 2001; 7:30 a.m.-9 p.m., May 31, 2001; 7:30 a.m.-3 p.m.

Place: National Science Foundation, 4201 Wilson Boulevard, Room 375, Arlington, VA.

Type of Meeting: Closed.

Contact Person: Dr. Ulrich Strom, Program Director, Materials Research Science and Engineering Centers, Division of Materials Research, Room 1065, National Science Foundation, 4201 Wilson Boulevard, Arlington, VA 22230, (703) 292-4938.

Purpose of Meeting: To provide advice and recommendations concerning proposals submitted to NSF for financial support.

Agenda: Review and evaluate proposals as part of the selection process to determine finalists for support for the FY Nanoscale Science and Engineering Centers (NSEC) Competition.

Reason for Closing: The work being reviewed may include information of a proprietary or confidential nature, including technical information; financial data, such as salaries and personal information concerning individuals associated with the proposals. These matters are exempt under 5 U.S.C. 552b(c)(4) and (6) of the Government in the Sunshine Act.

Dated: May 8, 2001.
Susanne Bolton,
Committee Management Officer.

[FR Doc. 01-11923 Filed 5-10-01; 8:45 am]

BILLING CODE 7555-01-M